DEPARTMENT OF COMMERCE

National Oceanic and Atmospheric Administration

RIN 0648-XC712

New England Fishery Management Council; Public Meeting

AGENCY: National Marine Fisheries Service (NMFS), National Oceanic and Atmospheric Administration (NOAA), Commerce.

ACTION: Notice of public meeting.

SUMMARY: The New England Fishery Management Council (Council) will hold a 3-day meeting to consider actions affecting New England fisheries in the exclusive economic zone (EEZ).

DATES: The meeting will be held on Tuesday, June 18 through Thursday, June 20, 2013. The meeting will begin at 9 a.m. on Tuesday, and at 8:30 a.m. on both Wednesday and Thursday.

ADDRESSES: The meeting will be held at the Holiday Inn by the Bay, 88 Spring Street, Portland, ME 04101; telephone: (207) 775.2311; fax: (207) 761.8224; or online at www.innbythebay.com/contact.

Council address: New England Fishery Management Council, 50 Water Street, Mill 2, Newburyport, MA 01950; telephone (978) 465-0492.

FOR FURTHER INFORMATION CONTACT: Thomas A. Nies, Executive Director, New England Fishery Management Council; telephone: (978) 465-0492.

SUPPLEMENTARY INFORMATION:

Tuesday, June 18, 2013

The Council will begin the first session of its 3-day meeting by receiving brief reports from the NEFMC Chairman and Executive Director, NOAA Fisheries Regional Administrator, the Northeast Fisheries Science Center and Mid-Atlantic Fishery Management Council liaisons, as well as NOAA General Counsel, and representatives of the Atlantic States Marine Fisheries Commission, Coast Guard, and NOAA Enforcement. During the Herring Committee report which will follow, the Council intends to initiate Framework Adjustment 3 to the Atlantic Herring Fishery Management Plan (FMP). The report will include alternatives to establish river herring/shad catch caps for the Atlantic herring fishery, a review of the available fishery information, a summary of the May 23, 2013 Herring PDT/Mackerel Monitoring Committee Report, a summary the Mid-Atlantic Fishery Management Council's development of river herring/shad catch caps for the mackerel fishery, and any related committee recommendations. The Council also will be asked to provide guidance to further develop the Framework 3 alternatives.

Following a lunch break and prior to a NOAA Fisheries Northeast Regional Office (NERO) report on the status of Atlantic sturgeon, there will be an open period for public comments during which any interested party may provide brief remarks on issues relevant to Council business but not listed on the meeting agenda. NERO staff also will present information on a proposed commercial scale mussel farm to be located 8.5 miles off Cape Ann. MA. A summary of the recent Monkfish Operational Assessment update will be presented, followed by the Scientific and Statistical Committee's report. Its chairman will provide an overview of the SSC's discussions about the monkfish assessment and the future development of an Acceptable Biological Catch (ABC) recommendation, as well as the committee's conclusions about the approach used by the Council's Groundfish Closed Area Technical Team to spatially analyze juvenile and spawning protection for key groundfish stocks.

Wednesday, June 19, 2013

The second day of meetings will start with the Northeast Fisheries Science Center's (NEFSC) presentation on Annual Catch Entitlement (ACE) trades and net revenue estimates in the groundfish fishery. NEFSC staff also will provide an update on progress toward developing a full profitability assessment. The Council will discuss Groundfish Committee recommendations concerning the development of Amendment 18 to the Northeast Multispecies FMP, in particular any revisions to the goals and objectives of the amendment. It also may initiate a framework adjustment to the plan to modify rebuilding plans and other measures. The Habitat Committee will ask for final comments concerning a Memorandum of Understanding concerning deep sea corals that is being developed by the New England, Mid-Atlantic and South Atlantic Councils. The Joint Habitat/Groundfish Committee report will include a request for approval of spatial management alternatives for purposes of analysis in the Essential Fish Habitat Omnibus #2 Amendment Draft Environmental Impact Statement. This report will continue until the meeting adjourns for the day.

Thursday, June 20, 2013

Representatives of the Transboundary Management Guidance Committee will discuss options for trading quota under the provisions of the U.S./Canada Resource Sharing Understanding and may ask the Council to develop U.S./Canada trading mechanisms. The Enforcement Committee will review its recommendations concerning a new Council Enforcement Policy (as proposed by NOAA Fisheries and the U.S. Coast Guard), and the issue of minimizing the use of fishing vessel compartments to hide illegal fish. The Monkfish Committee will ask the Council to initiate Framework Adjustment 8 to the Monkfish (FMP). The action would include Annual Catch Targets (ACT), days-a-sea (DAS) and trip limit specifications for the 2014-2016 fishing years, and possibly other changes to the current management program. The report also will provide an update on Amendment 6 to the FMP at which time there could be a request for the removal of the Individually Transferable Quota (ITQ) alternative in that action. Last, the Monkfish Report will include any committee recommendations concerning the monkfish research set-aside research priorities.

After a lunch break, representatives of the Northeast Regional Ocean Council (NROC) will present an overview of the purpose of NROC's series of public meetings, including the draft goals for regional ocean planning and potential actions. Before the NEFMC meeting adjourns, NERO staff will review and ask for Council approval of a draft environmental assessment for the Standard Bycatch Reporting Methodology Omnibus Amendment for the purpose of seeking public comments on the proposed action.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: May 29, 2013.
Tracey L. Thompson,
Acting Deputy Director, Office of Sustainable Fisheries, National Marine Fisheries Service.

[FR Doc. 2013-13040 Filed 5-31-13; 8:45 am]

BILLING CODE 3510-22-P